DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of June 1, 2022 through June 30, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
97,070 | Altor Safety | Valley Cottage, NY | Increased Aggregate Imports.
98,106 | Safran Cabin Materials, LLC | Ontario, CA | Shift in Production to an FTA Country or Beneficiary.
98,147 | Oracle America Inc | Hillsboro, OR | Actual/Likely Increase in Imports following a Shift Abroad.
98,151 | Medline Industries, LP, Sterile Procedure Tray | Temecula, CA | Shift in Production to an FTA Country or Beneficiary.
98,175 | Boyd Corporation | Portland, OR | Actual/Likely Increase in Imports following a Shift Abroad.
98,201 | Molded Acoustical Products of Easton, Inc | Granger, IN | Increased Customer Imports.
98,213 | Boyd Corporation | Gaffney, SC | Actual/Likely Increase in Imports following a Shift Abroad.
98,218 | Congoleum Flooring | Trenton, NJ | Increased Customer Imports.
98,248 | Mountain State Carbon LLC | Follansbee, WV | Upstream Supplier.
98,251 | Honeywell Safety Products USA, Inc | Smithfield, RI | Increased Customer Imports.
98,251A | Honeywell Safety Products USA, Inc | Smithfield, RI | Increased Customer Imports.
98,252 | KPI Concepts, LLC | West Burlington, IA | Upstream Supplier.
98,267 | Roseburg Forest Products | Dillard, OR | Increased Company Imports.
98,275 | SSB Manufacturing Plant, Fredericksburg Plant | Fredericksburg, VA | Increased Aggregate Imports.
98,276 | The Ames Company Inc, ClosetMaid LLC, ClosetMaid Brand | Pharr, TX | Shift in Production to an FTA Country or Beneficiary.
98,277 | Savant Systems, Inc | Bucyrus, OH | Increased Aggregate Imports.
98,279 | Oakley Industries Sub-Assembly Division Inc | Belvidere, IL | Upstream Supplier.
98,280 | SSB Manufacturing Company | Clear Lake, IA | Increased Customer Imports.
98,283 | Honeywell Safety Products USA, Inc | Franklin, PA | Shift in Production to an FTA Country or Beneficiary.
98,285 | Adient PLC | Sycamore, IL | Upstream Supplier.
98,289 | Stryker Employment Company, LLC | Lakeland, FL | Shift in Production to an FTA Country or Beneficiary.
98,292 | Regal Rexnord Corporation | Monticello, IN | Shift in Production to an FTA Country or Beneficiary.
98,295 | Fluid Routing Solutions, LLC | Big Rapids, MI | Shift in Production to an FTA Country or Beneficiary.
98,298 | MityLite | Lawrenceburg, TN | Shift in Production to an FTA Country or Beneficiary.
98,301 | Worwag Coatings LLC | Lafayette, IN | Shift in Production to an FTA Country or Beneficiary.
98,303 | Norgren GT Development LLC | Auburn, WA | Shift in Production to an FTA Country or Beneficiary.
98,313 | TE Connectivity | Andover, MN | Shift in Production to an FTA Country or Beneficiary.
98,315 | BCS Automotive Interface Systems | Winona, MN | Shift in Production to an FTA Country or Beneficiary.
98,319 | EcoWater Systems LLC | Woodbury, MN | Actual/Likely Increase in Imports following a Shift Abroad.
98,321 | Premier Glass USA, LLC | Park Hills, MO | Increased Customer Imports.
98,322 | Eagle's Catch, LLLP | Ellsworth, IA | Increased Aggregate Imports.
98,341 | Advanced Input Systems | Frankenmuth, MI | Actual/Likely Increase in Imports following a Shift Abroad.
98,342 | R.A. Phillips Industries, Inc | Santa Fe Springs, CA | Shift in Production to an FTA Country or Beneficiary.
98,343 | Prevost Car, Prevost Canada, Volvo Group | Plattsburgh, NY | Shift in Production to an FTA Country or Beneficiary.

Negative Determinations for Trade Adjustment Assistance

The following investigations revealed that the eligibility criteria for TAA have not been met for the reason(s) specified.

TA-W No. | Subject firm | Location | Reason(s)
96,863 | Jetech, Inc | Battle Creek, MI | No Shift in Production or Other Basis.
97,026 | Keurig Green Mountain, Inc | Essex Junction, VT | No Sales or Service Decline or Other Basis.
97,026A | Keurig Green Mountain, Inc | Waterbury, VT | No Employment Decline or Threat of Separation or ITC.
97,026B | Keurig Green Mountain, Inc | Waterbury, VT | No Sales or Service Decline or Other Basis.
97,026C | Keurig Green Mountain, Inc | Waterbury, VT | No Sales or Service Decline or Other Basis.
97,026D | Keurig Green Mountain, Inc | Waterbury, VT | No Shift in Services or Other Basis.
97,026E | Keurig Green Mountain, Inc | Williston, VT | No Shift in Production or Other Basis.
97,044 | Sonwil Distribution Center, Inc | Orchard Park, NY | No Sales or Service Decline or Other Basis.
97,044A | Sonwil Distribution Center, Inc | Depew, NY | No Sales or Service Decline or Other Basis.
97,044B | Sonwil Distribution Center, Inc | Buffalo, NY | No Sales or Service Decline or Other Basis.
98,056 | Prototron Circuits, Inc | Redmond, WA | No Import Increase and/or Production Shift Abroad.
98,169 | Alexander Dennis Inc, NFI Group Inc | Nappanee, IN | No Sales or Production Decline/Shift in Production (Domestic Transfer).
98,170 | Alexander Dennis Inc, NFI Group Inc | Peru, IN | No Sales or Production Decline/Shift in Production (Domestic Transfer).
98,191 | Portland General Electric Company | Boardman, OR | Workers Do Not Produce an Article.
98,192 | VHS Huron Valley-Sinai Hospital, Inc | Commerce Charter Township, MI | Workers Do Not Produce an Article.
98,192A | VHS Detroit Receiving Hospital, Inc | Detroit, MI | Workers Do Not Produce an Article.
98,192B | VHS Harper-Hutzel Hospital, Inc | Detroit, MI | Workers Do Not Produce an Article.
98,192C | VHS Rehabilitation Institute of Michigan | Detroit, MI | Workers Do Not Produce an Article.
98,192D | VHS Sinai-Grace Hospital, Inc | Detroit, MI | Workers Do Not Produce an Article.
98,198 | Spectranetics LLC | Colorado Springs, CO | Predominant Cause of Layoffs Unrelated to Imports, Shift in Production to Beneficiary Country, or Increase in Imports Following a Shift.
98,204 | Luminant Power LLC | North Bend, OH | Predominant Cause of Layoffs Unrelated to Imports, Shift in Production to Beneficiary Country, or Increase in Imports Following a Shift.
98,215 | ON Semiconductor Corporation | Pocatello, ID | No Sales or Production Decline/Shift in Production (Domestic Transfer).
98,217 | Anointed Hands Janitorial Services LLC | Suffolk, VA | Workers Do Not Produce an Article.
98,221 | LG Electronics USA, Solar | Huntsville, AL | No Sales or Production Decline/Shift in Production (Domestic Transfer).
98,227 | Peloton Interactive, Inc | Portland, OR | Predominant Cause of Layoffs Unrelated to Imports, Shift in Production to Beneficiary Country, or Increase in Imports Following a Shift.
98,233 | Prudential Financial, Enabling Solutions—Service Operations | El Paso, TX | Workers Do Not Produce an Article.
98,234 | Grindmaster Corporation, Electrolux Professional, AB | Louisville, KY | No Import Increase and/or Production Shift Abroad.
98,235 | First Call Resolution, LLC | Eugene, OR | Workers Do Not Produce an Article.
98,235A | First Call Resolution, LLC | Roseburg, OR | Workers Do Not Produce an Article.
98,235B | First Call Resolution, LLC | Roseburg, OR | Workers Do Not Produce an Article.
98,235C | First Call Resolution, LLC | Independence, OR | Workers Do Not Produce an Article.
98,235D | First Call Resolution, LLC | Grants Pass, OR | Workers Do Not Produce an Article.
98,235E | First Call Resolution, LLC | Coos Bay, OR | Workers Do Not Produce an Article.
98,235F | First Call Resolution, LLC | Veneta, OR | Workers Do Not Produce an Article.
98,236 | GenOn Energy Services, LLC | Springdale, PA | No Sales or Production Decline/Shift in Production (Domestic Transfer).
98,242 | Peloton Interactive, Inc, Supply Chain/Final Mile | Farmingdale, NY | Predominant Cause of Layoffs Unrelated to Imports, Shift in Production to Beneficiary Country, or Increase in Imports Following a Shift.
98,243 | Peloton Interactive, Inc | Mt Vernon, NY | Predominant Cause of Layoffs Unrelated to Imports, Shift in Production to Beneficiary Country, or Increase in Imports Following a Shift.
98,244 | Peloton Interactive, Inc | Port Washington, NY | Predominant Cause of Layoffs Unrelated to Imports, Shift in Production to Beneficiary Country, or Increase in Imports Following a Shift.
98,249 | Fastenal Company | Cranston, RI | No Employment Decline.
98,250 | Ronstan International Inc, Ronstan Properties Pty Ltd | Portsmouth, RI | Workers Do Not Produce an Article.
98,254 | Yeti Coolers, LLC | Austin, TX | No Sales or Production Decline/Shift in Production (Domestic Transfer).
98,255 | Leisure Pools USA Trading, Inc | Burlington, IA | No Import Increase and/or Production Shift Abroad.
98,256 | Cardinal Health Norfolk Manufacturing Facility | Norfolk, NE | Predominant Cause of Layoffs Unrelated to Imports, Shift in Production to Beneficiary Country, or Increase in Imports Following a Shift.
98,260 | John C. Heath Attorney at Law, PC, Lexington Law Firm | Phoenix, AZ | Workers Do Not Produce an Article.
98,262 | Sanofi US Services Inc | New York, NY | Predominant Cause of Layoffs Unrelated to Imports, Shift in Production to Beneficiary Country, or Increase in Imports Following a Shift.
98,265 | Peloton Interactive, Inc | Warren, MI | Predominant Cause of Layoffs Unrelated to Imports, Shift in Production to Beneficiary Country, or Increase in Imports Following a Shift.
98,271 | Grass Valley USA, LLC., Support Agreement Sales | Grass Valley, CA | Predominant Cause of Layoffs Unrelated to Imports, Shift in Production to Beneficiary Country, or Increase in Imports Following a Shift.
98,272 | Peloton Interactive, Inc | Plano, TX | Predominant Cause of Layoffs Unrelated to Imports, Shift in Production to Beneficiary Country, or Increase in Imports Following a Shift.
98,273 | ReedGroup Management LLC, Benefits Account Management | Westminster, CO | Workers Do Not Produce an Article.
98,288 | Avaya Inc, Sales, Sales Support, and Account Management Services | Thornton, CO | Workers Do Not Produce an Article.
98,290 | Terex Corporation | Westport, CT | Predominant Cause of Layoffs Unrelated to Imports, Shift in Production to Beneficiary Country, or Increase in Imports Following a Shift.
98,291 | Peloton Interactive Inc | Dayton, OH | Predominant Cause of Layoffs Unrelated to Imports, Shift in Production to Beneficiary Country, or Increase in Imports Following a Shift.
98,294 | EuropTec USA, Inc | Clarksburg, WV | No Sales or Production Decline/Shift in Production (Domestic Transfer).
98,296 | Mueller Brass Company | Belding, MI | No Sales or Production Decline/Shift in Production (Domestic Transfer).
98,299 | DS Services of America, Inc, dba Primo Water North America | Culver, OR | No Import Increase and/or Production Shift Abroad.
98,300 | Stanley Black & Decker, Inc | New Britain, CT | No Sales or Production Decline/Shift in Production (Domestic Transfer).
98,302 | Exel Inc d/b/a DHL Supply Chain | Mount Clemens, MI | Workers Do Not Produce an Article.
98,304 | AECOM Technical Services | Denver, CO | Workers Do Not Produce an Article.
98,306 | Nokia of America Corporation | Coppell, TX | Workers Do Not Produce an Article.
98,307 | TSK Innovations Company | El Paso, TX | Workers Do Not Produce an Article.
98,308 | TaskUs USA LLC | New Braunfels, TX | Workers Do Not Produce an Article.
98,312 | KPMG LLP | Montvale, NJ | Workers Do Not Produce an Article.
98,312A | KPMG LLP | Atlanta, GA | Workers Do Not Produce an Article.
98,312B | KPMG LLP | Dallas, TX | Workers Do Not Produce an Article.
98,314 | Transform Holdco LLC | Hoffman Estates, IL | Workers Do Not Produce an Article.
98,314A | Transform Holdco LLC | Fort Lauderdale, FL | Workers Do Not Produce an Article.
98,314B | Transform Holdco LLC | Key West, FL | Workers Do Not Produce an Article.
98,316 | Draken International LLC | Lakeland, FL | Workers Do Not Produce an Article.
98,317 | Peloton Interactive, Inc | Lakeland, FL | Predominant Cause of Layoffs Unrelated to Imports, Shift in Production to Beneficiary Country, or Increase in Imports Following a Shift.
98,323 | Massachusetts Mutual Life Insurance Company | Springfield, MA | Workers Do Not Produce an Article.
98,324 | Palisades Power Plant | Covert, MI | Predominant Cause of Layoffs Unrelated to Imports, Shift in Production to Beneficiary Country, or Increase in Imports Following a Shift.
98,326 | Electronic Arts Inc | Austin, TX | No Sales or Production Decline/Shift in Production (Domestic Transfer).
98,329 | Kerry Inc | Clark, NJ | Predominant Cause of Layoffs Unrelated to Imports, Shift in Production to Beneficiary Country, or Increase in Imports Following a Shift.
98,330 | Thule, Inc | Seymour, CT | Predominant Cause of Layoffs Unrelated to Imports, Shift in Production to Beneficiary Country, or Increase in Imports Following a Shift.
98,334 | SASOL Chemicals (USA) LLC, Oil City Plant, Sasol (USA) Corporation | Oil City, PA | Predominant Cause of Layoffs Unrelated to Imports, Shift in Production to Beneficiary Country, or Increase in Imports Following a Shift.
98,335 | BioReliance Corporation | Rockville, MD | Workers Do Not Produce an Article.
98,337 | Wells Fargo | Frederick, MD | Workers Do Not Produce an Article.

Determinations Terminating Investigations for Trade Adjustment Assistance

The following investigations were terminated for the reason(s) specified.

TA-W No. | Subject firm | Location | Reason(s)
98,286 | Dometic Corporation | LaGrange, IN | Invalid Petition.
98,327 | Heartland Construction | Georgetown, TX | Invalid Petition.
98,333 | Parkdale Mills | Galax, VA | Invalid Petition.

Revised Determinations on Reconsideration

The following revised determinations on reconsideration, certifying eligibility to apply for TAA, have been issued.

TA-W No. | Subject firm | Location | Reason(s)
95,738 | Precision Aluminum, Inc | Wadsworth, OH | Customer Imports of Articles.
96,116 | Motorola Mobility LLC | Chicago, IL | Shift in Services to a Foreign Country.
96,803 | Wabtec Corporation | Wilmerding, PA | Secondary Component Supplier.
96,950 | Dometic Corporation | Elkhart, IN | Shift in Production to a Foreign Country.

Negative Determinations on Reconsideration

The following negative determinations on reconsideration have been issued because the eligibility criteria for TAA have not been met for the reason(s) specified.

TA-W No. | Subject firm | Location | Reason(s)
95,580 | Philadelphia Energy Solutions Refining and Marketing LLC | Philadelphia, PA | No Shift in Production or Other Basis.
97,007 | T-Mobile USA, Inc | Honolulu, HI | No Shift in Services or Other Basis.

I hereby certify that the aforementioned determinations were issued during the period of June 1, 2022, through June 30, 2022. These determinations are available on the Department's website https://www.dol.gov/agencies/eta/tradeact under the searchable listing determinations or by calling the Office of Trade Adjustment Assistance toll free at 888-365-6822.

Signed at Washington, DC, this 7th day of July 2022.
Hope D. Kinglock,
Certifying Officer, Office of Trade Adjustment Assistance.

[FR Doc. 2022-15253 Filed 7-15-22; 8:45 am]

BILLING CODE 4510-FN-P